DEPARTMENT OF AGRICULTURE

Food Safety and Inspection Service

[Docket No. 02-004N]

Codex Alimentarius Commission: Twenty-fifth Session of the Codex Committee on Fish and Fishery Products

AGENCY: Office of the Under Secretary for Food Safety, USDA.

ACTION: Notice of public meeting and request for comments.

SUMMARY: The Office of the Under Secretary for Food Safety, U.S. Department of Agriculture (USDA), and the Food and Drug Administration (FDA), of the Department of Health and Human Services, are sponsoring a public meeting on May 8, 2002, to review technical content of the agenda item documents and to receive comments on all issues coming before the Twenty-fifth Session of the Codex Committee on Fish and Fishery Products (CCFFP), which will be held in Alesund, Norway, June 3-7, 2002.

DATES: The public meeting is scheduled for Wednesday, May 8, 2002, from 9:00 a.m. to 12:00 noon.

ADDRESSES: The public meeting will be held in the Harvey Wiley Federal Building, 5100 Paint Branch Parkway, College Park, Maryland 20740, Conference Room 4B 047.

To receive copies of the documents referenced in this notice, contact the Food Safety Inspection Service (FSIS) Docket Clerk, U.S. Department of Agriculture, Food Safety and Inspection Service, Room 102, Cotton Annex, 300 12th Street, SW., Washington, DC 20250-3700. The documents will also be accessible via the World Wide Web at the following address: http://www.fao.org/waicent/faoinfo/economic/esn/codex. Send comments, in triplicate, to the FSIS Docket Room and reference Docket #02-004N. All comments submitted in response to this notice will be available for public inspection in the FSIS Docket Room between 8:30 a.m. and 4:30 p.m., Monday through Friday.

FOR FURTHER INFORMATION CONTACT: Syed Amjad Ali, International Issues Analyst, U.S. Codex Office, FSIS, Room 4861, South Agriculture Building, 1400 Independence Avenue SW., Washington, DC 20250-3700, Telephone (202) 205-7760; Fax (202) 720-3157. Persons requiring a sign language interpreter or other special accommodations should notify Ms. Janet Walraven, Consumer Safety Officer, Office of Seafood, FDA, at telephone (301) 436-1404; Fax (301) 436-2601.

SUPPLEMENTARY INFORMATION:

Background

The Codex Alimentarius Commission (Codex), was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Fish and Fishery Products was established to elaborate codes and standards for fish and fishery products. The Government of Norway hosts this Committee and will chair the Committee meeting.

Issues To Be Discussed at the Public Meeting

The following specific issues will be discussed during the public meeting:

1. Matters Referred by the Codex Alimentarius Commission and other Codex committees.

2. Review Proposed Draft Standard for Dried Salted Anchovies.

3. Proposed Draft for Salted Atlantic Herring and Sprats for Histamine levels,

4. Proposed Draft Code of Practice for Fish and Fishery Products (sections 1, 2.1, 2.2, 2.9, 3 to 6 and 13).

5. Proposed Draft Code of Practice for Fish and Fishery Products: sections other than those listed in Item 3; Coated Fish; Retail; Surimi; Cephalopods; Transportation; Smoked; Salted; Molluscan Shellfish.

6. Proposed Draft Standard for Live, Quick Frozen and Canned bivalve Molluscs.

7. Proposed Draft Model Certificate for Fish and Fishery Products,

8. Proposed Draft Standard for Smoked Fish.

9. Proposed Draft Amendment to the Standard for Quick Frozen Lobsters.

10. Proposed Draft Standard for Scallops.

11. Discussion Paper—Inclusion of additional species and on labelling requirements related to the “name of the product” in Codex Standards (Proposed Draft Amendment to the Canned Sardines Standard).

12. Discussion paper on fish content in fish sticks.

Additional Public Notification

Public awareness of all segments of rulemaking and policy development is important. Consequently, in an effort to better ensure that minorities, women, and persons with disabilities are aware of this notice, FSIS will announce it and provide copies of this Federal Register publication in the FSIS Constituent Update. FSIS provides a weekly Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

Done at Washington, DC on: March 21, 2002.
F. Edward Scarbrough,
U.S. Manager for Codex Alimentarius.

[FR Doc. 02-7470 Filed 3-27-02; 8:45 am]

BILLING CODE 3410-DM-P